DEPARTMENT OF ENERGY

DOE/Advanced Scientific Computing Advisory Committee

AGENCY: Office of Science, Department of Energy.

ACTION: Notice of open meeting.

SUMMARY: This notice announces a meeting of the Advanced Scientific Computing Advisory Committee (ASCAC). The Federal Advisory Committee Act (Pub. L. 92-463, 86 Stat. 770) requires that public notice of these meetings be announced in the Federal Register.

DATES: Tuesday, August 14, 2012, 9:00 a.m.-5:00 p.m.; Wednesday, August 15, 2012, 9:00 a.m.-12:00 p.m.

ADDRESSES: American Geophysical Union (AGU), 2000 Florida Avenue NW., Washington, DC 20009-1277.

FOR FURTHER INFORMATION CONTACT: Melea Baker, Office of Advanced Scientific Computing Research; SC-21/Germantown Building; U.S. Department of Energy; 1000 Independence Avenue SW; Washington, DC 20585-1290; Telephone (301)-903-7486.

SUPPLEMENTARY INFORMATION: Purpose of the Meeting: The purpose of this meeting is to provide advice and guidance on a continuing basis to the Department of Energy on scientific priorities within the field of advanced scientific computing research.

Tentative Agenda Topics:

• View from Washington

• View from Germantown

• Update on Exascale

• Update from Committee of Visitors for Computer Science activities

• Facilities update including early science efforts

• Early Career technical talks

• Recompetition results for Scientific Discovery through Advanced Computing (SciDAC) applications

• Co-design

• Public Comment (10-minute rule)

Public Participation: The meeting is open to the public. A webcast of this meeting may be available. Please check the Web site below for updates and information on how to view the meeting. If you would like to file a written statement with the Committee, you may do so either before or after the meeting. If you would like to make oral statements regarding any of the items on the agenda, you should contact Melea Baker by telephone at (301) 903-7486 or email at: Melea.Baker@science.doe.gov. You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available on the U.S. Department of Energy's Office of Advanced Scientific Computing Web site (www.sc.doe.gov/ascr) for viewing.

Issued at Washington, DC, on July 25, 2012.
LaTanya R. Butler,
Acting Deputy Committee Management Officer.

[FR Doc. 2012-18626 Filed 7-30-12; 8:45 am]

BILLING CODE 6450-01-P